DEPARTMENT OF THE INTERIOR

Bureau of Land Management

[NV-050-1050-FD]

Pedestrian and Vehicular Closure on Certain Public Lands Managed by the Bureau of Land Management, Las Vegas Field Office

AGENCY: Bureau of Land Management, Interior.

ACTION: Pedestrian and vehicular closure on selected public lands in Clark County, Nevada.

SUMMARY: The Manager of the Las Vegas Field Office announces a pedestrian and vehicular closure on selected public lands under the Office's administration. The perimeter of the subject lands has been previously fenced to aid in the protection of sensitive heritage and traditional values. Closure will aid in law enforcement efforts to protect these lands. This action is being taken to ensure public safety, prevent unnecessary environmental degradation and prevent impacts from pedestrian or vehicular use of these lands. In the area subject to this closure, ongoing access-related damage to significant resources is adversely affecting their continuing importance to Indian tribes and the public.

EFFECTIVE DATE: The closure is effective immediately and will remain in effect for a period of one year.

Closure Area: Public lands affected are within the following described area: Township 15 South, Range 66 East, Sections 7 and 8. Maps depicting the area affected by this closure order are available for public inspection at the Las Vegas, Field Office, Bureau of Land Management at the address listed below.

Exceptions to Closure: Certain persons authorized or permitted by the Las Vegas Field Manager may be allowed within the selected lands.

Closure Restrictions: Unless otherwise authorized by the Las Vegas Field Office Manager, no person shall be allowed within the boundaries of the presently fenced enclosure legally described above. This applies to all types of access.

Definitions: “Authorized persons refers to those groups or individuals specifically authorized for official business. This includes certain BLM employees and contractors, volunteers, tribal members, University personnel or any other persons authorized by the Las Vegas Field Manager.”

This closure order is issued under the authority of 43 CFR 8364.1. Violation of any of the terms, conditions, or restrictions contained within this closure order, may subject the violator to citation or arrest, with a penalty of fine or imprisonment or both as specified by law.

FOR FURTHER INFORMATION CONTACT: Stanton D. Rolf, District Archaeologist, at the Bureau of Land Management, Las Vegas, Field Office, 4765 W. Vegas Drive, Las Vegas, Nevada 89108, telephone number (702) 647-5055.

Dated: February 20, 2001.
Mark T. Morse,
Field Manager.

[FR Doc. 01-6069 Filed 3-9-01; 8:45 am]

BILLING CODE 4310-33-M